HARRY S. TRUMAN SCHOLARSHIP FOUNDATION

Harry S. Truman Scholarship 2003 Competition

AGENCY: Harry S. Truman Scholarship Foundation.

ACTION: Notice of closing for nominations from eligible institutions of higher education.

SUMMARY: Notice is hereby given that, pursuant to the authority contained in the Harry S. Truman Memorial Scholarship Act, Public Law 93-642 (20 U.S.C. 2001), nominations are being accepted from eligible institutions of higher education for 2003 Truman Scholarships. Procedures are prescribed at 45 CFR 1801.

In order to be assured consideration, all documentation in support of nominations must be received by the Truman Scholarship Foundation, 712 Jackson Place, NW., Washington, DC 20006 no later than January 27, 2003 from participating institutions.

Dated: December 17, 2002.
Louis H. Blair,
Executive Secretary.

[FR Doc. 03-72 Filed 1-2-03; 8:45 am]

BILLING CODE 6820-AD-M